DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Interviews With Grantees Integrating Behavioral Health Treatment, Prevention, and HIV Medical Care Services (OMB NO. 0930-0336)—Reinstatement

SAMHSA is requesting Office of Management and Budget (OMB) approval to conduct in-person Site Visit Interviews with Minority AIDS Initiative—Continuum of Care (MAI-CoC) Grantees Integrating Behavioral Health Treatment, Prevention, and HIV Medical Care Services. This reinstatement request utilizes revised versions of the site visit interview guide approved under the Minority AIDS Initiative—Targeted Capacity Expansion (MAI-TCE) Grantees Integrating HIV Primary Care, Substance Abuse, and Behavioral Health Services (OMB NO. 0930-0336). The two rounds of interviews (baseline and follow-up) target the collection of programmatic-level data (e.g., community context, organizational structure, and staffing and staff development, services and service model, outreach, referral and enrollment into services, services/care coordination and integration and funding for integrated services and program successes and challenges) through one-on-one and group interviews with grantees who are part of the MAI-CoC program.

The goal of the MAI-CoC project is to integrate behavioral health treatment, prevention, and HIV and Hepatitis medical care services for racial/ethnic minority populations at high risk for behavioral health disorders who are also at high risk for or living with HIV and Hepatitis. The program also supports other priority populations including men who have sex with men (MSM) and bisexual men, transgender persons, and people with substance use disorder. The program is primarily intended for substance use disorder treatment and community mental health providers to provide coordinated and integrated services through the collocation and/or integration of behavioral health treatment and HIV and Hepatitis medical care. Interviews conducted with MAI-CoC grantees during the two rounds of site visits are an integral part of evaluation efforts to: (1) Assess the impact of the SAMHSA-funded HIV and Hepatitis programs in: Reducing behavioral health disorders and HIV and Hepatitis infections; increasing access to substance use disorder and mental disorder treatment and care; improving behavioral and mental health outcomes; and reducing HIV and Hepatitis-related disparities; (2) Describe the different integrated behavioral health and medical program models; and (3) Determine which program types or models are most effective in improving behavioral health and clinical outcomes.

Over the four-year project, SAMHSA will conduct two rounds of these in-person site visits (baseline and follow-up) with each of the 34 MAI-CoC program grantees.

SAMHSA will conduct one-on-one and group interviews with MAI-CoC grantee staff who will provide information on their program's integration of HIV and Hepatitis prevention, medical care, and primary care into behavioral health services. While participating in the evaluation is a condition of the grantees' funding, participating in the interview process is voluntary. The instruments are designed to collect information about: (1) The development and changes in MAI-CoC program operations, staffing, training and programming; (2) the grantee organization, the MAI-CoC program and its structure, the community context surrounding program efforts, and changes that result from MAI-CoC activities; and, (3) the changes in the number or nature of partnerships and collaborations both internal and external to the MAI-CoC program grantee.

Below is the table of the estimated total burden hours:

Data collection tool | Number of respondents | Number of responses per respondent | Total number responses | Hour per response | Total burden hours
Initial Site Visit Interview Guide | 306 | 1 | 306 | 2 | 612
Follow-up Site Visit Interview Guide | 306 | 1 | 306 | 1 | 306
Total | 306 |  | 612 |  | 918

Written comments and recommendations concerning the proposed information collection should be sent by September 12, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-19214 Filed 8-11-16; 8:45 am]

BILLING CODE 4162-20-P